FEDERAL COMMUNICATIONS COMMISSION

[EB Docket No. 06-163; FCC 06-124]

Terry Keith Hammond, Licensee, Station KBKH(FM), Shamrock, TX

AGENCY: Federal Communications Commission.

ACTION: Notice.

SUMMARY: This document commences a hearing proceeding by directing Terry Keith Hammond, the licensee of Station KBKH(FM), Shamrock, Texas, to show cause why the license of Station KBKH(FM) should not be revoked, and by designating the license renewal application for Station KBKH(FM) for an evidentiary hearing on issues relating to Terry Keith Hammond's qualifications to be and remain a Commission licensee.

DATES: Petitions by persons desiring to participate as a party in the hearing, pursuant to 47 CFR 1.223, may be filed not later than November 3, 2006. See SUPPLEMENTARY INFORMATION section for dates that named parties should file appearances.

ADDRESSES: Please file documents with the Investigations and Hearings Division, Enforcement Bureau, Federal Communications Commission, Room 4-C330, 445 12th Street, SW., Washington, DC 20554.

FOR FURTHER INFORMATION CONTACT: Judy Lancaster or Anjali K. Singh, Investigations and Hearings Division, Enforcement Bureau at (202) 418-1420; Jennifer A. Lewis, Assistant Chief, Investigations and Hearings Division, Enforcement Bureau at (202) 418-1420.

SUPPLEMENTARY INFORMATION: This is a summary of the Order to Show Cause, Notice of Opportunity for Hearing and Hearing Designation Order, FCC 06-124, released September 15, 2006. The full text of the Order to Show Cause, Notice of Opportunity for Hearing and Hearing Designation Order is available for inspection and copying from 8 a.m. to 4:30 p.m. Monday through Thursday or from 8 a.m. to 11:30 a.m. on Friday at the FCC Reference Information Center, Room CY-A257, 445 12th Street, SW., Washington, DC 20554. The complete text may be purchased from the Commission's copy contractor, Best Copy and Printing, Inc. (BCPI), Portals II, 445 12th Street, SW., Room CY-B402, Washington, DC 20554, telephone 202-488-5300, facsimile 202-488-5563, or you may contact BCPI at its Web site: http://www.BCPIWEB.com. When ordering documents for BCPI, please provide the appropriate FCC document number, FCC 06-124. The Order is also available on the Internet at the Commission's Web site through its Electronic Document Management System (EDOCS): http://hraunfoss.fcc.gov/edocs-public/SilverStream/Pages/edocs.html. Alternative formats are available to persons with disabilities (Braille, large print, electronic files, audio format), send an e-mail to fcc504@fcc.gov or call the Consumer and Governmental Affairs Bureau at 202-418-0530 (voice), (202) 418-0432 (tty).

Summary of the Order: In the Order to Show Cause, Notice of Opportunity for Hearing and Hearing Designation Order, the Commission commences a hearing proceeding to determine whether Terry Keith Hammond, the licensee of Station KBKH(FM), Shamrock, Texas, is qualified to be and remain a Commission licensee, whether Hammond's application for renewal of the license of Station KBKH(FM) should be granted, and whether a monetary forfeiture should be assessed against Hammond.

The Commission received a complaint that alleged, among other things, that Hammond was not operating the station in accordance with its authorization and that Hammond had been convicted of felony theft. The Commission conducted an investigation and inspection of Station KBKH(FM) which revealed that the station is not operating in accordance with the terms of its license and that Hammond has not requested authority to do so, thereby violating Commission rules. Specifically, the station is operating from a site other than the site which is authorized in its license and at a reduced power level. In addition, the investigation revealed that Hammond failed to construct the station's upgraded facilities, but nevertheless filed a license application in which he apparently made false certifications, misrepresentations of fact and/or demonstrated a lack of candor. The Commission directed Terry Keith Hammond to respond to letters of inquiry concerning his felony conviction and the operation of Station KBKH(FM), but he failed to provide full and complete responses and documents. During the pendency of the investigation, Terry Keith Hammond timely filed a license renewal application for Station KBKH(FM) in which he failed to disclose his felony conviction.

The Commission determined that the fact of Terry Keith Hammond's felony conviction raises a substantial and material question of fact as to his qualifications to be and to remain a Commission licensee and may warrant revocation of the license of Station KBKH(FM). Thus, pursuant to Sections 312(a) and 312(c) of the Communications Act of 1934, as amended, 47 U.S.C. 312(a) and (c) and § 1.91 of the Commission's rules, 47 CFR 1.91, the Order to Show Cause directs Terry Keith Hammond to show cause why the license of Station KBKH(FM), Shamrock, Texas, should not be revoked, upon the following issues:

1. To determine the effect of Terry Keith Hammond's felony conviction on his qualifications to be and remain a Commission licensee;

2. To determine, in light of the evidence adduced pursuant to the foregoing issue, whether Terry Keith Hammond is qualified to be and to remain a Commission licensee and whether the license for Station KBKH(FM), Shamrock, Texas, should be revoked. Moreover, the Commission determined that there are substantial and material questions of fact as to whether Terry Keith Hammond may have made false certifications, misrepresented facts to or lacked candor with the Commission regarding construction of upgraded facilities for Station KBKH(FM) and regarding his criminal felony conviction. Misrepresentation, lack of candor and false certification are the types of serious violations of the Commission's rules that may be grounds for denying a license renewal application. In addition, Terry Keith Hammond's operation of Station KBKH(FM) substantially at variance with the terms of its authorizations and other apparent violations of the Commission's rules, including his failure to respond fully to Commission inquiries, raise a substantial and material question of fact as to whether his application for renewal of the Station KBKH(FM) license should be granted and whether his existing license should be revoked.

Thus, pursuant to Sections 309(e) and 309(k) of the Communications Act of 1934, as amended, 47 U.S.C. 309(e), (k), the Commission designated the KBKH(FM) license renewal application for an evidentiary hearing, specifying the following issues:

3. To determine whether Terry Keith Hammond made false certifications, misrepresentations and/or lacked candor in his License Upgrade Application (File No. BLH-20030122AEG, as amended), in violation of § 73.1015 of the Commission's rules;

4. To determine whether Terry Keith Hammond made false certifications, misrepresentations and/or lacked candor in his Renewal Application, in violation of § 73.1015 of the Commission's rules (File No. BRH-20050401AAA);

5. To determine whether Terry Keith Hammond willfully and/or repeatedly violated §§ 73.1350(a), 73.1560(b) and (d) and/or 73.1745(a) of the Commission's rules, by operating Station KBKH(FM) at a location, power and antenna height that were not authorized by the station's license;

6. To determine whether Terry Keith Hammond willfully and/or repeatedly violated § 11.35 of the Commission's rules, by failing to maintain operational EAS equipment and station logs concerning EAS equipment and tests for Station KBKH(FM);

7. To determine whether Terry Keith Hammond willfully and/or repeatedly violated § 73.1015 of the Commission's rules by failing to provide full and complete responses and documents as directed by letters of inquiry issued by the staff of the Enforcement Bureau on June 14, 2004, and August 10, 2004; and

8. To determine, in light of the evidence adduced pursuant to the foregoing designated issues, whether the captioned application for renewal of the license for Station KBKH(FM) should be granted, or denied.

Copies of the Order to Show Cause, Notice of Opportunity for Hearing, and Hearing Designation Order are being sent by certified mail, return receipt requested, to Terry Keith Hammond. To avail himself of the opportunity to be heard, Terry Keith Hammond, pursuant to § 1.91(c) and § 1.221 of the Commission's rules, 47 CFR 1.91(c) and 47 CFR 1.221, in person or by his attorney, must within 30 days of the release of this Order, file in triplicate a written notice of appearance stating an intention to appear on the date fixed for the hearing and present evidence on the issues specified in this Order. Terry Keith Hammond pursuant to § 73.3594 of the Commission's rules, 47 CFR 73.3594, shall give notice of the hearing within the time and in the manner prescribed in 47 CFR 73.3594, and shall advise the Commission of the publication of such notice as required by 47 CFR 73.3594(g).

Federal Communications Commission.
Marlene H. Dortch,
Secretary.

[FR Doc. E6-16217 Filed 10-3-06; 8:45 am]

BILLING CODE 6712-01-P